DEPARTMENT OF HOUSING AND URBAN DEVELOPMENT

[Docket No. FR-7003-N-02]

Notice of Proposed Information Collection; Comment Request: Section 3 Summary Report for Economic Opportunities for Low and Very Low-Income Persons (Form HUD 60002) and Section 3 Complaint Register (Form HUD 958)

AGENCY: Office of the Assistant Secretary for Fair Housing and Equal Opportunity (FHEO), Department of Housing and Urban Development (HUD).

ACTION: Notice.

SUMMARY: The proposed information collection requirement described below is being submitted to the Office of Management and Budget (OMB) for review and approval. In accordance with the Paperwork Reduction Act of 1995, HUD is soliciting public comments from all interested parties on the subject proposal. The purpose of this notice is to allow for 60 days of public comment.

DATES: Comments Due Date: February 19, 2019.

ADDRESSES: Interested persons are invited to submit comments regarding this proposal. Comments should refer to the proposal by name and/or OMB Control Number and should be sent to Colette Pollard, Reports Management Officer, QMAC, Department of Housing and Urban Development, 451 7th Street SW, Washington, DC 20410, Room 4186 or email at Colette.Pollard@hud.gov for a copy the proposed forms or other available information. Persons with hearing or speech impairments may access this number through TTY by calling the toll-free Federal Relay Service at 1-800-877-8339.

FOR FURTHER INFORMATION CONTACT: Stephanie Waller Thomas, Economic Opportunity Division, Office of Programs, Department of Housing and Urban Development, 451 7th Street SW, Washington, DC 20410, Room 5236, telephone (202) 402-6938 (this is not a toll-free number) for copies of the proposed forms and other available information.

SUPPLEMENTARY INFORMATION: This notice informs the public that HUD is seeking approval from OMB for the information collection described in Section A.

A. Overview of Information Collection

Title of Proposal: (1) Section 3 Summary Report for Economic Opportunities for Low- and Very Low-Income Persons and (2) Section 3 Complaint Register.

OMB Control Number, if applicable: 2529-0043.

Form Number: Form HUD 60002 and Form HUD 958.

Description of the need for the information and proposed use: This is a revision to the previously approved information collection to correct the 2015 calculation of burden hours. Section 3 of the Housing and Urban Development Act of 1968 (12 U.S.C. 1701u) (Section 3) mandates recipients of covered HUD financial assistance to provide employment, training and contracting opportunities, to the greatest extent feasible, to low- and very low-income persons, particularly those who are recipients of government assistance for housing residing in the community where the funds are expended, and to the businesses that substantially employ these persons. The implementing regulations are found at 24 CFR part 135.

The Section 3 Summary Report (Form HUD 60002) is used by recipients of HUD financial assistance (i.e., public housing agencies, municipalities, and property owners) to report the number of jobs, training opportunities for eligible residents and the dollar amount contracting opportunities that have been generated from the expenditure of covered HUD financial assistance, as required at 24 CFR 135.90. Data collected on this form is used to assess the overall effectiveness of Section 3 and to make determinations of compliance with regulatory requirements.

The Section 3 Complaint Register (Form HUD 958) is used by individuals and business owners that meet the definition of a Section 3 resident or business concerns as set forth at 24 CFR part 135.5, or their representatives, to file complaints alleging noncompliance with the regulatory requirements of Section 3 against recipients of covered HUD financial assistance or their contractors. Information collected on this form is used to inform the Department about recipients that potentially are not complying with 24 CFR part 135, and to initiate subsequent complaint investigations and compliance reviews.

Members of the Affected Public

A. Section 3 Summary Report—Form HUD 60002: Staff at public housing agencies, municipalities and HUD multi-family property owners.

B. Section 3 Complaint Register—Form HUD 958: Low and very low-income residents and business concerns as defined in 24 CFR part 135.5.

Usage of Information

A. Section 3 Summary Report—Form HUD 60002: The information will be used by the Department to monitor program recipients' compliance with Section 3 requirements. HUD Headquarters will use the information to assess the results of the Department's efforts to meet the regulatory objectives; make compliance determinations; influence enforcement actions; and formulate policy decisions.

B. Section 3 Complaint Register—Form HUD 958: Information collected on this form will be used to inform the Department about recipients who may not be in compliance with 24 CFR part 135, and to initiate subsequent complaint investigations and compliance reviews.

Estimation of the total numbers of hours needed to prepare the information collection including number of respondents, frequency of response, and hours of response:

Information collection | Number of respondents | Frequency of response | Responses per annum | Burden hour per response | Annual burden hours | Hourly cost per response | Annual cost
HUD-60002 | 5,000 | 2 | 10,000 | 8 | 80,000 | $22.71 | $1,816,800
HUD-958 | 20 | 1 | 20 | 1 | 20 | 10.00 | 200

The 2015 Burden had a total of 90,180 hours of burden by adding 10,000 responses per annum for Form HUD 60002 to 20 hours for Form HUD 958 and then multiplying by 9 hours of burden. This calculation is incorrect. For 2015 the burden should have been 80,020 hours total. The above calculation corrects the number of burden hours and reduces the annual burden.

Status of the proposed information collection: Revision of a currently approved collection.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: The Paperwork Reduction Act of 1995, 44 U.S.C., Chapter 35, as amended.

Dated: December 11, 2018.
Anna Maria Farías,
Assistant Secretary for Fair Housing and Equal Opportunity.

[FR Doc. 2018-27765 Filed 12-20-18; 8:45 am]

BILLING CODE 4210-67-P